DEPARTMENT OF HEALTH AND HUMAN SERVICES

Health Resources and Services Administration

Agency Information Collection Activities: Submission to OMB for Review and Approval; Public Comment Request; Information Collection Request Title: Bureau of Primary Health Care—Program Management Resource Compendium, 0906-XXXX, New

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than October 22, 2021.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-9094.

SUPPLEMENTARY INFORMATION:

Information Collection Request Title: Bureau of Primary Health Care—Program Management Resource Compendium, OMB No. 0906-XXXX, New.

Abstract: The Program Management Resource Compendium project will encompass an historical analysis of HRSA's Bureau of Primary Health Care (BPHC), as well as a historical analysis of the Health Center Program, performed by federal contractors. Dating from the founding of the initial community health centers in the mid-1960s up to the present time, the analysis will consider the evolution and critical milestones of BPHC and the Health Center Program based on documentary research and interviews with individuals with historical knowledge of the Health Center Program and the health center movement.

A 60-day notice published in the Federal Register (86 FR 30962 (June 10, 2021). There were no public comments.

Need and Proposed Use of the Information: The information gathered through interviews will be combined with information drawn from documentary research to inform the historical analysis. The results of the analysis will be presented in communication products for an internal audience, as well as products for an external audience. The goals of the project are to increase awareness of the Health Center Program management within the government and among the general public, as well as to inform BPHC's future development by analyzing and drawing lessons from its earlier administration of the Health Center Program.

Likely Respondents: Interviews are expected with current and former BPHC employees, as well as representatives of the National Association of Community Health Centers, other national organizations, state and regional Primary Care Associations, and HRSA-funded health centers. A list of possible interviewees has been compiled with input by current and former HRSA leadership and staff. A total of 35-50 interviews are expected.

Interviews will be conducted virtually by a trained moderator and note taker, using a structured in-depth interview guide. Each interview is expected to last approximately one hour. It is also anticipated that interviewees may spend up to 15 minutes preparing for their interviews, for example by reviewing historical files. Signed consent forms regarding participation and the use of recording devices during the interview will be obtained from each participant prior to their participation in the interviews. The in-depth interview guide is available upon request.

Burden Statement: Burden in this context means the time expended by persons to generate, maintain, retain, disclose or provide the information requested. This includes the time needed to: Review instructions; develop, acquire, install, and utilize technology and systems for the purpose of collecting, validating, and verifying information, processing and maintaining information, and disclosing and providing information; train personnel and to be able to respond to a collection of information; search data sources; complete and review the collection of information; and transmit or otherwise disclose the information. The total annual burden hours estimated for this ICR are summarized in the table below.

Total Estimated Annualized Burden Hours
Form name | Number of respondents | Number of responses per respondent | Total responses | Average burden per response (in hours) | Total burden hours
Historical interview | 50 | 1 | 50 | 1.25 | 62.5
Total | 50 |  | 50 |  | 62.5

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-20524 Filed 9-21-21; 8:45 am]

BILLING CODE 4165-15-P